DEPARTMENT OF ENERGY

Federal Energy Regulatory Commission

[Docket No. PF04-15-000]

Dominion Cove Point LNG, LP; Dominion Transmission, Inc.; Notice of Intent To Prepare an Environmental Impact Statement for the Proposed Dominion Cove Point LNG Expansion Project Request for Comments on Environmental Issues, and Notice of Public Scoping Meetings and Site Visits

October 14, 2004.

The staff of the Federal Energy Regulatory Commission (FERC or Commission) will prepare an environmental impact statement (EIS) that will discuss the environmental impacts of Dominion Cove Point LNG, LP's and Dominion Transmission, Inc.'s (DTI) (collectively referred to as Dominion) proposed Cove Point LNG Expansion Project. This notice explains the scoping process the Commission will use to gather input from the public and interested agencies on the project. Your input will help us determine which issues need to be evaluated in the EIS. Please note that the scoping period for the project will close on November 23, 2004.

Comments may be submitted by electronic submission, in written form, or verbally. Further details on how to submit comments are provided in the public participation section of this notice. In lieu of sending comments, you are invited to attend the public scoping meetings scheduled as follows:

Dates and Times of Meetings

Wednesday, November 3, 2004: 7 p.m. (EST), Old Courthouse, 1 Market Street, Lewistown, PA 17044, (717) 248-6733.

Thursday, November 4, 2004: 7 p.m. (EST), Hilton Garden Inn, 1101 East College Ave., State College, PA 16801, (814) 231-1590.

Tuesday, November 16, 2004: 7 p.m. (EST), Holiday Inn—Solomons, 155 Holiday Drive, Solomons, MD 20688, (410) 326-1069.

Thursday, November 18, 2004: 7 p.m. (EST), Holiday Inn—Waldorf, U.S. 301 and St. Patrick's Drive, Waldorf, MD 20603, (301) 645-8200.

In addition, on Thursday, November 4 and Wednesday, November 17, 2004 starting at 9 a.m. (EST), we ¹ will be conducting a site visit to inspect Dominion's pipeline routes. Anyone interested in participating in the site visit on November 4th (Pennsylvania facilities) should meet at the parking lot of the Hilton Garden Inn, 1101 East College Avenue, State College, Pennsylvania at 9 a.m. We will depart at 9:15 a.m.

¹ “We,” “us,” and “our” refer to the environmental staff of the Office of Energy Projects.

Anyone interested in participating in the site visit on November 17th for the TL-532 pipeline loop in Maryland should meet at the parking lot at the Safeway Shopping Center, 80 West Dares Beach Road, Prince Frederick, Maryland at 9 a.m. We will depart at 9:15 a.m.

Participants must provide their own transportation. For additional information, please contact the Commission's Office of External Affairs at (866) 208-FERC (3372).

This notice is being sent to affected landowners; Federal, State, and local government agencies; elected officials; environmental and public interest groups; Native American tribes; other interested parties; and local libraries and newspapers. We encourage government representatives to notify their constituents of this planned project and encourage them to comment on their areas of concern.

Summary of the Proposed Cove Point LNG Expansion Project

Dominion states that (1) the expansion at the terminal and the additional pipeline projects are key to delivering new gas supplies to where they are needed in the Mid-Atlantic and Northeast; and (2) the project facilities in Maryland would bring more winter supplies to the Mid-Atlantic region, and the project facilities in Pennsylvania would allow supplies to be stored in the summer and moved to the Northeast for use during the winter.

Dominion proposes to expand its existing liquefied natural gas (LNG) terminal by adding two new 160,000 cubic meter LNG storage tanks at its site in Calvert County, Maryland. The terminal expansion would increase the send-out capability by 800 million standard cubic feet per day and increase the storage capacity by about 14.6 billion cubic feet.

In addition, Dominion plans to construct five new natural gas pipelines totaling about 161 miles in length to deliver additional capacity to pipeline connections in Virginia and Pennsylvania. These pipelines include:

• About 47 miles of 36-inch-diameter loop ² pipeline in Calvert, Prince Georges, and Charles County, Maryland (TL-532);

² A loop is a segment of pipeline that is adjacent to an existing pipeline and connected to it at both ends. The loop allows more gas to be moved through the system.

• About 81 miles of 24-inch-diameter pipeline lateral in Juniata, Mifflin, Huntingdon, Centre, and Clinton Counties, Pennsylvania (PL-1 EXT2).

As part of the new Pennsylvania lateral system, Dominion plans to construct two new compressor stations in Juniata and Centre Counties, Pennsylvania.

Dominion also plans to construct three pipelines in Pennsylvania to support the storage and transportation of natural gas at the Leidy Hub. These would include:

• 11 miles of 24-inch diameter pipeline loop in Greene County;

• 12 miles of 24-inch-diameter pipeline loop in Potter County; and

• 10 miles of 20-inch-diameter pipeline loop in Potter County, Pennsylvania.

The expansion would also include pipeline upgrades, modifications at existing above-ground facilities, and other minor facility modifications, including metering facilities at the existing Leesburg Compressor Station in Loudoun County, Virginia; and pipeline pressure restoration on Dominion's existing pipeline system in Franklin County, Pennsylvania.

The general location of facilities is shown in appendix 1 ³.

³ The appendix referenced in this notice is not being printed in the Federal Register. Copies of the appendix were sent to all those receiving this notice in the mail. Requests for detailed maps of the proposed facilities should be made directly to Dominion (see http://www.dom.com/about/gas-transmission /covepoint/ expansion/ index.jsp for contact information).

Dominion indicates that the expansion of facilities at its existing Racket Newberne storage facility in Gilmer County, West Virginia would include the addition of new wells, well gathering lines, compression and related piping and equipment necessary to more effectively utilize the already certificated pool capacity. Certain of these modifications may be performed pursuant to DTI's blanket certificate authority, as permitted by 18 Code of Federal Regulations 157 subpart F.

Dominion expects to file a formal application with the Commission in the first quarter 2005. Pending Commission approval, Dominion would begin the expansion at the Cove Point LNG facility as soon as authorization is received; and would construct the pipeline facilities in the spring of 2008. Dominion plans on placing all of the facilities into service in the fall of 2008.

The EIS Process

The FERC will use the EIS to consider the environmental impact that could result if it issues Cove Point LNG Expansion project authorization under Sections 3 and 7 of the Natural Gas Act.

This notice formally announces our preparation of the EIS and invites your input into the process referred to as “scoping.” We are soliciting input from the public and interested agencies to help us focus the analysis on the potentially significant environmental issues related to the proposed actions.

Our independent analysis of the issues for the project will be included in the draft EIS. The draft EIS will be mailed to Federal, State, and local government agencies; elected officials; environmental and public interest groups; Native American tribes; affected landowners; other interested parties; local libraries and newspapers; and the FERC's official service lists for these proceedings. A 45-day comment period will be allotted for review of the draft EIS. We will consider all comments on the draft EIS and revise the documents, as necessary, before issuing final EIS.

Although no formal application has been filed, the FERC staff has already initiated its National Environmental Policy Act (NEPA) review at this time. The purpose of the Pre-filing Process is to encourage the early involvement of interested stakeholders and to identify and resolve issues before an application is filed with the FERC. We previously mailed an information fact sheet, called “Pre-filing Review for the Cove Point LNG Expansion Project” to our preliminary environmental mailing list in late September. You may also view this sheet in FERC's eLibrary system (see the “Availability of Additional Information” to access this and other documents that are filed in this proceeding).

The FERC will be the lead federal agency in the preparation of the EIS. The document will satisfy the FERC's requirements of the NEPA. We are currently involved in discussions with other jurisdictional agencies in Maryland and Pennsylvania to identify their issues and concerns.

With this notice, we are asking Federal, State, and local agencies with jurisdiction and/or special expertise with respect to environmental issues to formally cooperate with us in the preparation of the EIS. These agencies may choose to participate once they have evaluated the proposal relative to their responsibilities. Agencies that would like to request cooperating status should follow the instructions for filing comments provided under the Public Participation section of this Notice.

The U.S. Army Corps of Engineers (USACE) has already agreed to cooperate in the preparation of the EIS. In order to meet both the FERC's and the USACE's regulatory requirements for fulfilling NEPA, we have prepared this Notice with the cooperation of the USACE staff. This joint notice eliminates the redundancy and costs of duplicate mailings. In addition, staff of the USACE will participate with the FERC staff at the scoping meetings listed above to provide convenience to interested parties and agencies.

Currently Identified Environmental Issues

The EIS will discuss impacts that could occur as a result of the construction and operation of the proposed project. We have already identified several issues that we think deserve attention based on a preliminary review of the project site and the information provided by Dominion. This preliminary list of issues may be changed based on your comments and our analysis. The following issues will be addressed in the EIS:

• Impacts on waterbodies crossed by the pipelines, particularly St. Leonard's Creek, the Patuxent River, and the West Branch of the Susquehanna River.

• Impacts on tidal and non-tidal wetlands crossed by the pipelines, particularly in Calvert, Prince Georges and Charles Counties, Maryland.

• Impacts on State and/or federally-listed threatened and endangered species, including bald eagle, timber rattlesnake, and Indiana bat.

• Impacts on residential areas located along the pipeline routes, particularly those subdivisions located along TL-532 pipeline loop route and alternatives.

• Impacts on State-managed lands crossed by the pipelines, particularly the Sproul, Rothrock, Bald Eagle, and Tuscarora State Forests in Pennsylvania.

• Visual impacts associated with LNG terminal expansion.

• Impact and potential benefits of construction workforce on local housing, infrastructure, public services, and economy.

• Impacts on local air quality and noise, particularly with the addition of two new compressor stations in Pennsylvania.

• Hazards associated with the transport, unloading, storage, and vaporization of LNG.

• Pipeline route alternatives and variations, including the no action alternative.

• Impacts on any Section 4(f) Lands in Pennsylvania.

Public Participation

You can make a difference by providing us with your specific comments or concerns about the proposal. Your comments should focus on the potential environmental effects, reasonable alternatives, and measures to avoid or lessen environmental impact. The more specific your comments, the more useful they will be. To expedite our receipt and consideration of your comments, the Commission strongly encourages electronic submission of any comments on this project. See 18 CFR 385.2001(a)(1)(iii) and the instructions on the Commission's Web site at http://www.ferc.gov under the “e-Filing” link and the link to the User's Guide. Before you can submit comments you will need to create a free account, which can be created by clicking on “Login to File” and then “New User Account.” You will be asked to select the type of submission you are making. This submission is considered a “Comment on Filing.”

If you wish to mail comments, please mail your comments so that they will be received in Washington, DC on or before November 23, 2004, and carefully follow these instructions:

Send an original and two copies of your letter to: Magalie R. Salas, Secretary, Federal Energy Regulatory Commission, 888 First St., NE., Room 1A, Washington, DC 20426;

• Label one copy of your comments for the attention of Gas Branch 1;

• Reference Docket No. PF04-15-000 (Dominion) on the original and both copies.

The public scoping meetings to be held next month are designed to provide another opportunity to offer comments on the proposed project. Interested groups and individuals are encouraged to attend one of the meetings and to present comments on the environmental issues they believe should be addressed in the EIS. A transcript of the meetings will be generated so that your comments will be accurately recorded.

We will include all comments that we receive within a reasonable time frame in our environmental analysis of the project.

Availability of Additional Information

A docket number (PF04-15-000) has been established to place information filed by Dominion and related documents issued by the Commission, into the public record. To view information in the docket, follow the instructions for using the eLibrary link (see below). Once a formal application is filed, the Commission will:

• Publish a Notice of Application in the Federal Register;

• Establish a new docket number; and

• Set a deadline for interested persons to intervene in the proceeding.

Because the Commission's Pre-Filing Process occurs before an application to begin a proceeding is officially filed, petitions to intervene during this process are premature and will not be accepted by the Commission.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at ferconlinesupport@ferc.gov. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Finally, Dominion has established an Internet Web site for its project at http://www.dom.com/about/gas-transmission/covepoint/expansion/index.jsp. The Web site includes a description of the project, maps of the proposed site, and links to related documents.

Magalie R. Salas,
Secretary.

[FR Doc. E4-2761 Filed 10-20-04; 8:45 am]

BILLING CODE 6717-01-P